DEPARTMENT OF AGRICULTURE

Animal and Plant Health Inspection Service

[Docket No. APHIS-2009-0005]

Notice of Availability of an Evaluation of the Highly Pathogenic Avian Influenza Subtype H5N1 Status of Hungary

AGENCY: Animal and Plant Health Inspection Service, USDA.

ACTION: Notice of availability and request for comments.

SUMMARY: We are advising the public that the Animal and Plant Health Inspection Service has prepared an evaluation of the animal health status of two counties (Bács-Kiskun and Csongrád) in Hungary relative to the H5N1 subtype of highly pathogenic avian influenza (HPAI). The evaluation presents our assessment of the HPAI H5N1 detection, control, and eradication measures in place in those two counties in Hungary during outbreaks of HPAI H5N1 in 2006 and 2007. If, after the close of the comment period, APHIS can identify no additional risk factors that would indicate that domestic poultry in these two counties continue to be affected with HPAI H5N1, we would conclude that the importation of live birds, poultry carcasses, parts of carcasses, and eggs (other than hatching eggs) of poultry, game birds, or other birds from Bács-Kiskun and Csongrád Counties in Hungary presents a low risk of introducing HPAI H5N1 into the United States.

DATES: We will consider all comments that we receive on or before July 15, 2009.

ADDRESSES: You may submit comments by either of the following methods:

• Federal eRulemaking Portal: Go to http://www.regulations.gov/fdmspublic/component/main?main=DocketDetial&d=APHIS-2009-0005 to submit or view comments and to view supporting and related materials available electronically.

• Postal Mail/Commercial Delivery: Please send two copies of your comment to Docket No. APHIS-2009-0005, Regulatory Analysis and Development, PPD, APHIS, Station 3A-03.8, 4700 River Road Unit 118, Riverdale, MD 20737-1238. Please state that your comment refers to Docket No. APHIS-2009-0005.

Reading Room: You may read any comments that we receive on the evaluation in our reading room. The reading room is located in room 1141 of the USDA South Building, 14th Street and Independence Avenue, SW., Washington, DC. Normal reading room house are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Mr. Javier Vargas, Case Manager, Regionalization Evaluation Services Staff, National Center for Import and Export, VS, APHIS, 4700 River Road, Unit 38, Riverdale, MD 20737-1231; (301) 734-0756.

SUPPLEMENTARY INFORMATION:

Background

Under the Animal Health Protection Act (7 U.S.C. 8301 et seq.), the Animal and Plant Health Inspection Service (APHIS) has the authority to prohibit or restrict the importation into the United States of animals, animal products, and other articles in order to prevent the introduction of diseases and pests into the U.S. livestock and poultry populations.

Highly pathogenic avian influenza (HPAI) is a highly infectious disease of poultry. The H5N1 subtype of HPAI is an extremely infectious and fatal form of the disease. HPAI can strike poultry quickly without any warning signs of infection and, once established, can spread rapidly from flock to flock. HPAI viruses can also be spread by manure, equipment, vehicles, egg flats, crates, and people whose clothing or shoes have come in contact with the virus. HPAI viruses can remain viable at moderate temperatures for long periods in the environment and can survive indefinitely in frozen material. The H5N1 subtype of HPAI has been of particular concern because it has crossed the species barrier and caused disease in humans.

From June 9 to July 12, 2006, Hungary's Department for Food Chain Safety and Animal Health (DFCSAH) reported to the World Organization for Animal Health (OIE) seven outbreaks of HPAI H5N1 in domestic waterfowl in Bács-Kiskun County.

On January 21 and January 26, 2007, the DFCSAH detected two outbreaks of HPAI H5N1 in commercial flocks of geese in Csongrád County.

To prevent the introduction of HPAI H5N1 into the United States, APHIS designated Hungary's counties of Bács-Kiskun and Csongrád as regions where HPAI was considered to exist and prohibited the importation of birds, poultry, and poultry products from these regions into the United States.

In a document titled “APHIS' Evaluation of the Status of High Pathogenicity Avian Influenza H5N1 Virus in Hungary” (November 2008), we present the results of our evaluation of the status of HPAI H5N1 in domestic poultry in Hungary in light of the actions taken by Hungarian authorities since the outbreaks, and document our analysis of the risk associated with allowing the importation of birds, poultry, and poultry products from Bács-Kiskun and Csongrád Counties, Hungary, into the United States in the aftermath of the outbreaks.

We based our evaluation of the HPAI H5N1 status of the two counties in Hungary on the following critical factors:

• Hungary had been free of outbreaks of the H5N1 subtype in its domestic poultry for at least 3 months as a result of effective control measures taken by a competent veterinary infrastructure;

• HPAI H5N1 was a notifiable disease in Bács-Kiskun and Csongrád Counties at the time of the outbreaks;

• Hungary had an ongoing disease awareness program in place at the time of the outbreaks;

• Hungary investigated notified or suspected occurrences of the disease;

• Hungary had an effective surveillance program in place that supported the detection and investigation of outbreaks;

• Diagnostic and laboratory capabilities within Bács-Kiskun and Csongrád Counties were both adequate and effective;

• Hungary undertook appropriate eradication and control measures and movement restrictions in response to the outbreaks to prevent further spread of disease; and

• Procedures used for repopulation of affected premises in Bács-Kiskun and Csongrád Counties included monitoring to demonstrate that HPAI H5N1 had been eradicated from the premises.

Based on these factors, which are consistent with the OIE's recommendations for reinstatement of trade with a country that has experienced an HPAI H5N1 outbreak,¹ our evaluation concludes that DFCSAH was able to effectively control and eradicate HPAI H5N1 in the domestic poultry population and that the Hungarian authorities have adequate control measures in place to rapidly identify, control, and eradicate the disease should it be reintroduced into Hungary in either wild birds or domestic poultry.

¹ OIE (2008). Risk Analysis. In Terrestrial Animal Health Code, 17th edition. Paris, World Organization for Animal Health: Chapter 2.2 on Import Risk Analysis; Chapter 10.4 on Avian Influenza. To view the document on the Internet, go to http://www.oie.int/emg/normes/mcode/A-summry.htm?e1d11.

We are making the evaluation available for public comment. We will consider all comments that we receive on or before the date listed under the heading DATES at the beginning of this notice.

If, after the close of the comment period, APHIS can identify no additional risk factors that would indicate that domestic poultry in Bács-Kiskun and Csongrád Counties in Hungary continue to be affected with HPAI H5N1, we would conclude that the importation of live birds, poultry carcasses, parts of carcasses, and eggs (other than hatching eggs) of poultry, game birds, or other birds from Hungary presents a low risk of introducing HPAI H5N1 into the United States.

The evaluation may be viewed on the Regulations.gov Web site or in our reading room (see ADDRESSES above for a link to Regulations.gov and information on the location and hours of the reading room). You may request paper copies of the evaluation by calling or writing to the person listed under FOR FURTHER INFORMATION CONTACT. Please refer to the title of the evaluation when requesting copies.

Authority: 7 U.S.C. 450, 7701-7772, 7781-7786, and 8301-8317; 21 U.S.C. 136 and 136a; 31 U.S.C. 9701; 7 CFR. 2.22, 2.80, and 371.4.

Done in Washington, DC, this 9th day of June 2009.
Kevin Shea,
Acting Administrator, Animal and Plant Health Inspection Service.

[FR Doc. E9-14004 Filed 6-12-09; 8:45 am]

BILLING CODE 3410-34-P